DEPARTMENT OF ENERGY

Federal Energy Regulatory Commission

Combined Notice of Filings

Take notice that the Commission has received the following Natural Gas Pipeline Rate and Refund Report filings:

Filings Instituting Proceedings

Docket Numbers: RP14-399-000.

Applicants: Wyoming Interstate Company, L.L.C.

Description: FL&U Effective March 1, 2014 to be effective 3/1/2014.

Filed Date: 1/29/14.

Accession Number: 20140129-5078.

Comments Due: 5 p.m. ET 2/10/14.

Docket Numbers: RP14-400-000.

Applicants: Rockies Express Pipeline LLC.

Description: Neg Rate NC A&R 2014-01-29 Encana to be effective 2/1/2014.

Filed Date: 1/29/14.

Accession Number: 20140129-5084.

Comments Due: 5 p.m. ET 2/10/14.

Docket Numbers: RP14-401-000.

Applicants: ANR Pipeline Company.

Description: Working Gas Storage to be effective 3/1/2014.

Filed Date: 1/29/14.

Accession Number: 20140129-5107.

Comments Due: 5 p.m. ET 2/10/14.

Docket Numbers: RP14-402-000.

Applicants: Texas Eastern Transmission, LP.

Description: ConocoPhillips Releases 2-01-2014 to be effective 2/1/2014.

Filed Date: 1/29/14.

Accession Number: 20140129-5147.

Comments Due: 5 p.m. ET 2/10/14

Docket Numbers: RP14-403-000.

Applicants: Texas Eastern Transmission, LP.

Description: ConocoPhillips Releases 4-01-2014 to be effective 4/1/2014.

Filed Date: 1/29/14.

Accession Number: 20140129-5149.

Comments Due: 5 p.m. ET 2/10/14.

Docket Numbers: RP14-404-000.

Applicants: Texas Eastern Transmission, LP.

Description: ConocoPhillips Releases 4-01-2016 to be effective 4/1/2016.

Filed Date: 1/29/14.

Accession Number: 20140129-5154.

Comments Due: 5 p.m. ET 2/10/14.

Docket Numbers: RP14-405-000.

Applicants: Iroquois Gas Transmission System, L.P.

Description: 01/29/14 Negotiated Rates—JP Morgan Ventures (RTS) 6025-26 to be effective 2/1/2014.

Filed Date: 1/29/14.

Accession Number: 20140129-5157.

Comments Due: 5 p.m. ET 2/10/14.

Docket Numbers: RP14-406-000.

Applicants: Iroquois Gas Transmission System, L.P.

Description: 01/29/14 Negotiated Rates—Tenaska Gas Storage, LLC (HUB) 1175-89 to be effective 1/28/2014.

Filed Date: 1/29/14.

Accession Number: 20140129-5168.

Comments Due: 5 p.m. ET 2/10/14.

Docket Numbers: RP14-407-000.

Applicants: Big Sandy Pipeline, LLC.

Description: Big Sandy Fuel Filing effective 3-1-2014.

Filed Date: 1/29/14.

Accession Number: 20140129-5169.

Comments Due: 5 p.m. ET 2/10/14.

Docket Numbers: RP14-408-000.

Applicants: Trailblazer Pipeline Company LLC.

Description: Neg Rate 2014-01-29 Whiting Oil to be effective 2/1/2014.

Filed Date: 1/29/14.

Accession Number: 20140129-5175.

Comments Due: 5 p.m. ET 2/10/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-993-004.

Applicants: Transcontinental Gas Pipe Line Company.

Description: Stipulation and Agreement Tariff Record Filing to be effective 3/1/2013.

Filed Date: 1/29/14.

Accession Number: 20140129-5121.

Comments Due: 5 p.m. ET 2/18/14.

Reply Comments Due: 5 p.m. ET 2/28/14.

Docket Numbers: RP14-395-001.

Applicants: Millennium Pipeline Company, LLC.

Description: Retainage Percentage Provisions Revisions—Amendment to be effective 3/1/2014.

Filed Date: 1/29/14.

Accession Number: 20140129-5113.

Comments Due: 5 p.m. ET 2/10/14.

Docket Numbers: RP14-369-001.

Applicants: PGPipeline LLC.

Description: Tariff filing per 154.203; Missing Data in Name Change Filing to be effective 2/14/2014.

Filed Date: 1/15/14.

Accession Number: 20140115-5078.

Comments Due: 5 p.m. ET 2/4/14.

Any person desiring to protest in any of the above proceedings must file in accordance with Rule 211 of the Commission's Regulations (18 CFR 385.211) on or before 5:00 p.m. Eastern time on the specified date(s).

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 30, 2014.
Nathaniel J. Davis, Sr.,
Deputy Secretary.

[FR Doc. 2014-02656 Filed 2-6-14; 8:45 am]

BILLING CODE 6717-01-P